COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List a product and a service to be furnished by nonprofit agencies employing persons who are blind or have other severe disabilities.

DATES: Effective Date: January 4, 2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 9/11/2009 (74 FR 46748-46749) and 10/9/2009 (74 FR 52186), the Committee for Purchase From People Who Are Blind or Severely Disabled published notices of proposed additions to the Procurement List.

After consideration of the material presented to it concerning capability of qualified nonprofit agencies to furnish a product and a service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish a product and a service to the Government.

2. The action will result in authorizing small entities to furnish a product and a service to the Government.

3. There are no known regulatory alternatives which would accomplish the objectives of the Javits-Wagner-O'Day Act (41 U.S.C. 46-48c) in connection with a product and a service proposed for addition to the Procurement List.

End of Certification

Accordingly, the following product and service are added to the Procurement List:

Product

NSN: 3990-00-NSH-0076—Type E Pallet.

NPA: Goodwill Industries of South Texas, Inc., Corpus Christi, TX.

Contracting Activity: DEPT OF THE ARMY, XR W0MU USA DEPOT, CORPUS CHRISTI, TX.

Coverage: C-List for the requirements of the DEPT OF THE ARMY, XR W0MU USA DEPOT, CORPUS CHRISTI, TX.

Service

Service Type/Location: Custodial and Grounds Maintenance Services, Lewis R. Morgan FB-PO-CT, 18 Greenville Street, Newnan, GA.

NPA: WORKTEC, Jonesboro, GA.

Contracting Activity: GSA/Property Management Contracts, Public Buildings Service, Atlanta, GA.

Barry S. Lineback,
Director, Business Operations.

[FR Doc. E9-28941 Filed 12-3-09; 8:45 am]

BILLING CODE 6353-01-P